DEPARTMENT OF COMMERCE

National Oceanic and Atmospheric Administration

RIN 0648-XC642

Fisheries of the Gulf of Mexico; Southeast Data, Assessment, and Review (SEDAR); Public Meetings

AGENCY: National Marine Fisheries Service (NMFS), National Oceanic and Atmospheric Administration (NOAA), Commerce.

ACTION: Notice of SEDAR 33 Gulf of Mexico gag and greater amberjack workshops and webinars.

SUMMARY: The SEDAR 33 assessment of the Gulf of Mexico stocks of gag (Mycteroperca microlepis) and greater amberjack (Seriola dumerili) will consist of: a Data Workshop; an Assessment process conducted via webinars; and a Review Workshop. See SUPPLEMENTARY INFORMATION.

DATES: The Data Workshop will be held from 1 p.m. on Monday, May 20, 2013 until 12 p.m. on Friday, May 24, 2013 in Tampa, FL. The Assessment Workshop will take place via webinar on the following dates in 2013: July 22; July 29; August 5; August 14; August 21; August 28; September 4; September 11; September 18; September 25; October 2; and October 9. All webinars will begin at 1 p.m. eastern time (ET) and will last approximately four hours. The Review Workshop will take place from 1 p.m. on Monday, November 18, 2013 until 12 p.m. on Thursday, November 21, 2013 in Miami, FL. See SUPPLEMENTARY INFORMATION.

ADDRESSES:

Meeting addresses: The Data Workshop will be held at the Tampa Westshore Marriott, 1001 Westshore Plaza Boulevard, Tampa, FL 33607; (813) 287-2555. The Assessment Workshop webinars will be held via GoToWebinar. The Review Workshop will be held at the Doubletree by Hilton Grande Hotel Biscayne Bay, 1717 N. Bayshore Drive, Miami, FL 33132; (305) 372-0313. All workshops and webinars are open to members of the public. Those interested in participating should contact Ryan Rindone at SEDAR (see FOR FURTHER INFORMATION CONTACT) to request an invitation providing pertinent information. Please request meeting information at least 24 hours in advance.

SEDAR address: 4055 Faber Place Drive, Suite 201, N. Charleston, SC 29405.

FOR FURTHER INFORMATION CONTACT: Ryan Rindone, SEDAR Coordinator; telephone: (813) 348-1630; email: ryan.rindone@gulfcouncil.org.

SUPPLEMENTARY INFORMATION: The Gulf of Mexico, South Atlantic, and Caribbean Fishery Management Councils, in conjunction with NOAA Fisheries and the Atlantic and Gulf States Marine Fisheries Commissions, have implemented the Southeast Data, Assessment and Review (SEDAR) process, a multi-step method for determining the status of fish stocks in the Southeast Region. SEDAR is a three-step process including: (1) Data Workshop; (2) Assessment Process utilizing webinars; and (3) Review Workshop. The product of the Data Workshop is a data report which compiles and evaluates potential datasets and recommends which datasets are appropriate for assessment analyses. The product of the Assessment Process is a stock assessment report which describes the fisheries, evaluates the status of the stock, estimates biological benchmarks, projects future population conditions, and recommends research and monitoring needs. The assessment is independently peer reviewed at the Review Workshop. The product of the Review Workshop is a Consensus Summary documenting panel opinions regarding the strengths and weaknesses of the stock assessment and input data. Participants for SEDAR Workshops are appointed by the Gulf of Mexico, South Atlantic, and Caribbean Fishery Management Councils and NOAA Fisheries Southeast Regional Office, Highly Migratory Species Management Division, and Southeast Fisheries Science Center. Participants include: data collectors and database managers; stock assessment scientists, biologists, and researchers; constituency representatives including fishermen, environmentalists, and non-governmental organizations (NGOs); international experts; and staff of Councils, Commissions, and state and federal agencies.

The items of discussion in the individual workshop agendas are as follows:

SEDAR 33 Data Workshop, May 20-24, 2013

1. Assessment data sets and associated documentation will be developed.

2. Participants will evaluate all available data and select appropriate sources for providing information on life history characteristics, catch statistics, discard estimates, length and age composition, and fishery dependent and fishery independent measures of stock abundance.

SEDAR 33 Assessment Workshop Webinars, July 22-October 9, 2013

Participants will review modeling efforts, suggest sensitivity analyses, and decide upon an appropriate model run or set of model runs to put forward to the Review Workshop for each species assessed.

SEDAR 33 Review Workshop, November 18-21, 2013

Panelists will review the assessments and document their comments and recommendations in a Consensus Summary.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the intent to take final action to address the emergency.

Special Accommodations

These meetings are accessible to people with disabilities. Requests for auxiliary aids should be directed to the SEDAR office (see ADDRESSES) at least 10 business days prior to the meeting.

Note: The times and sequence specified in this agenda are subject to change.

Dated: April 23, 2013.
William D. Chappell,
Acting Deputy Director, Office of Sustainable Fisheries, National Marine Fisheries Service.

[FR Doc. 2013-09917 Filed 4-25-13; 8:45 am]

BILLING CODE 3510-22-P